DEPARTMENT OF ENERGY

Federal Energy Regulatory Commission

[Docket No. RM11-2-000]

Smart Grid Interoperability Standards; Notice of Technical Conference

December 21, 2010.

Take notice that the Federal Energy Regulatory Commission will hold a Technical Conference on Monday, January 31, 2011 at the Commission's headquarters at 888 First Street, Washington, DC 20426, beginning at 1 p.m. (EST) in the Commission Meeting Room. The technical conference will be led by Commission staff. Commissioners may attend the conference.

The conference will be open for the public to attend and advance registration is not required. The purpose of the technical conference is to obtain further information to aid the Commission's determination of whether there is “sufficient consensus” that the five families of standards posted by the National Institute of Standards and Technology and included in this proceeding are ready for Commission consideration in a rulemaking proceeding, as directed by section 1305(d) of the Energy Independence and Security Act of 2007.

A subsequent notice will be issued by the Commission providing an agenda of the conference. Information on this event will be posted on the Calendar of Events on the Commission's Web site, http://www.ferc.gov, prior to the event. The conference will be Webcast. Anyone with Internet access who desires to listen to this event can do so by navigating to http://www.ferc.gov' s Calendar of Events and locating this event in the Calendar. The event will contain a link to the webcast. The Capitol Connection provides technical support for webcasts and offers the option of listening to the meeting via phone-bridge for a fee. If you have any questions, visit http://www.CapitolConnection.org or call 703-993-3100.

Commission conferences are accessible under section 508 of the Rehabilitation Act of 1973. For accessibility accommodations please send an e-mail to accessibility@ferc.gov or call toll free 1-866-208-3372 (voice) or 202-208-8659 (TTY); or send a Fax to 202-208-2106 with the required accommodations.

For more information on this conference, please contact Sandra Waldstein at Sandra.Waldstein@ferc.gov or (202) 502-8092, Ray Palmer at Ray.Palmer@ferc.gov or (202) 502-6569, or Annabelle Lee at Annabelle.Lee@ferc.gov or (202) 502-8709.

Kimberly D. Bose,
Secretary.

[FR Doc. 2010-32640 Filed 12-27-10; 8:45 am]

BILLING CODE 6717-01-P